DEPARTMENT OF COMMERCE

National Oceanic and Atmospheric Administration

[I.D. 072806B]

Fisheries of the Caribbean, Gulf of Mexico, and South Atlantic; South Atlantic Snapper Grouper Fishery Management Plan; Amendment 15

AGENCY: National Marine Fisheries Service (NMFS), National Oceanic and Atmospheric Administration (NOAA), Commerce.

ACTION: Notice of intent to prepare a draft environmental impact statement; supplement; request for comments.

SUMMARY: The South Atlantic Fishery Management Council (Council) is preparing a Draft Environmental Impact Statement (DEIS) to assess the environmental impacts of a range of management actions proposed in its draft Amendment 15 to the Snapper Grouper Fishery Management Plan of the South Atlantic (FMP). This notice is intended to supplement notices published in January 2002, September 2003, and July 2005, announcing the preparations of DEISs for FMP Amendments 13, 13B, and 13C, respectively.

DATES: Comments on the scope of the DEIS will be accepted through September 5, 2006.

ADDRESSES: Comments should be sent to Jack McGovern, National Marine Fisheries Service, Southeast Regional Office, 263 13th Avenue South, St. Petersburg, FL 33701; Phone: 727-824-5311; Fax: 727-824-5308; email: John.McGovern@noaa.gov.

FOR FURTHER INFORMATION CONTACT: Kim Iverson, Public Information Officer, toll free 1-866-SAFMC-10 or 843-571-4366; kim.iverson@safmc.net.

SUPPLEMENTARY INFORMATION: The snapper grouper fishery operating in the South Atlantic exclusive economic zone is managed under the FMP. Following Council preparation, this FMP was approved and implemented by NMFS in March 1983, under the authority of the Magnuson-Stevens Fishery Conservation and Management Act (Magnuson-Stevens Act).

The actions proposed in FMP Amendment 15 originated from the Council's work on Amendment 13, which contained a broad range of actions to define management reference points, end overfishing and rebuild overfished stocks, consider a multispecies approach to management, address bycatch, modify permit renewal and transferability requirements, and address the scheduled sunset of regulations protecting the Oculina Experimental Closed Area. NMFS published a notice of intent (NOI) to prepare an EIS in association with Amendment 13 in the Federal Register on January 31, 2002 (67 FR 4696), then later supplemented that notice on September 12, 2003 (68 FR 53706) and, again, on July 26, 2005 (70 FR 46126).

The first NOI supplement announced the Council's intent to transfer the Oculina Experimental Closed Area action from Amendment 13 to Snapper Grouper FMP Amendment 13A, and the remaining actions in Amendment 13 to Snapper Grouper FMP Amendment 13B. This decision was intended to ensure the Council adequate time to fully evaluate a range of actions to address overfishing, rebuilding, and other issues in the snapper grouper fishery without compromising the Council's ability to act on the Oculina Experimental Closed Area before its scheduled sunset date of June 27, 2004.

The second NOI supplement announced the Council's intent to address overfishing and a few other priority actions in a regulatory amendment, which later became Amendment 13C. This decision was intended to ensure extended debate about multispecies management and other actions in Amendment 13B did not delay Council action to effectively address overfishing of snowy grouper, golden tilefish, vermilion snapper, and black sea bass.

During its December 2005 meeting, the Council decided to transfer from Amendment 13B to Amendment 15 actions to define management reference points and rebuilding plans, as needed, for the select stocks addressed in Amendment 13C. This action is intended to ensure the timely implementation of biological reference points, status determination criteria, and rebuilding schedules and strategies for these stocks before the Southeast Data Assessment and Review assessments describing their status become outdated.

The Council also will consider in Amendment 15: establishing a strategy to ensure stock rebuilding stays on schedule should the total allowable catch levels specified in rebuilding plans be exceeded; adjusting the golden tilefish fishing year and trip limit strategy; eliminating the 12-inch (30.5-cm) total length minimum size limit regulation for the queen snapper and silk snapper; requiring a Federal commercial snapper grouper permit to sell snapper grouper species harvested in Federal waters of the South Atlantic and limiting sales to only those fish captured on commercial trips; establishing a deep-water grouper unit to further minimize bycatch of deep-water grouper species; implementing measures to minimize bycatch mortality of sea turtles and smalltooth sawfish; establishing a method to monitor and assess bycatch in the snapper grouper fishery; and modifying commercial snapper grouper permit renewal and transferability requirements. All other actions referenced above and not evaluated in Amendments 13A, 13B, 13C, or 15 continue to remain in Amendment 13B.

This NOI supplement announces the Council's intent to prepare a DEIS in association with Amendment 15. A Federal Register notice will announce the availability of the DEIS, as well as a 45-day public comment period, pursuant to regulations issued by the Council on Environmental Quality for implementing the National Environmental Policy Act and to NOAA's Administrative Order 216-6. The Council will consider public comments received on the DEIS in developing the Final Environmental Impact Statement (FEIS), and before voting to submit the final amendment to NMFS for Secretarial consideration. NMFS will announce in the Federal Register the availability of the final amendment and FEIS during the Secretarial review period, and will consider all public comments prior to agency action to approve, disapprove, or partially approve the final amendment.

Authority: 16 U.S.C. 1801 et seq.

Dated: July 31, 2006.
Alan D. Risenhoover,
Acting Director, Office of Sustainable Fisheries, National Marine Fisheries Service.

[FR Doc. E6-12650 Filed 8-3-06; 8:45 am]

BILLING CODE 3510-22-S